DEPARTMENT OF JUSTICE

[OMB Number 1122-NEW]

Agency Information Collection Activities: New Collection; Survey of Supervised Visitation and Safe Exchange Programs Grantees and Partners

ACTION: 60-Day Notice.

The Department of Justice, Office on Violence Against Women (OVW) will be submitting the following information collection request to the Office of Management and Budget (OMB) for review and approval in accordance with the Paperwork Reduction Act of 1995. Comments are encouraged and will be accepted for “sixty days” until July 22, 2013. This process is conducted in accordance with 5 CFR 1320.10.

Written comments concerning this information collection should be sent to the Office of Information and Regulatory Affairs, Office of Management and Budget, Attn: DOJ Desk Officer. The best way to ensure your comments are received is to email them to oira_submission@omb.eop.gov or fax them to 202-395-7285. All comments should reference the 8 digit OMB number for the collection or the title of the collection. If you have questions concerning the collection, please Cathy Poston, Office on Violence Against Women, at 202-514-5430.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Survey of Supervised Visitation and Safe Exchange Program Grantees and Partners.

(3) Agency form number, if any, and the applicable component of the Department of Justice sponsoring the collection: Form Number: 1122-XXXX. U.S. Department of Justice, Office on Violence Against Women.

(4) Affected public who will be asked or required to respond, as well as a brief abstract: The affected public includes the approximately past and current 800 Safe Havens: Supervised Visitation and Safe Exchange Grant Program (Supervised Visitation Program) grantees and their current and former grant partners. The Supervised Visitation Program provides an opportunity for communities to support the supervised visitation and safe exchange of children in situations involving domestic violence, dating violence, child abuse, sexual assault, or stalking.

(5) An estimate of the total number of respondents and the amount of time estimated for an average respondent to respond/reply: It is estimated that it will take the approximately 800 respondents (approximately past and current 800 Supervised Visitation Program grantees and their current and former grant partners) approximately 30 minutes to complete the survey. The survey will include 10 questions that will address demographics of families served, type of grant, significant outcomes for their community, and successes and challenges experienced either under the grant program or in general. Most of the questions will be multiple choice or involve a rating scale while a few will include narrative responses.

(6) An estimate of the total public burden (in hours) associated with the collection:

The total annual hour burden to complete the data collection forms is 400 hours, that is approximately 800 respondents with an estimated completion time for the form being 30 minutes.

If additional information is required contact: Jerri Murray, Department Clearance Officer, United States Department of Justice, Justice Management Division, Policy and Planning Staff, Two Constitution Square, 145 N Street NE., Washington, DC 20530.

Dated: May 15, 2013.
Jerri Murray,
Department Clearance Officer for PRA, United States Department of Justice.

[FR Doc. 2013-12021 Filed 5-20-13; 8:45 am]

BILLING CODE 4410-FX-P